COMMISSION ON CIVIL RIGHTS

Agenda and Notice of Public Meeting of the West Virginia Advisory Committee

Date and Time: Friday, February 27, 2015, at 10:00 a.m. [EST].

Place: Via Teleconference. Public Dial-in 1-877-446-3914; Listen Line Code: 3110313#

TDD: Dial Federal Relay Service 1-800-977-8339 give operator the following number: 202-376-7533—or by email at ero@usccr.gov.

Notice is hereby given, pursuant to the provisions of the rules and regulations of the U.S. Commission on Civil Rights (Commission), and the Federal Advisory Committee Act (FACA), that a planning meeting of the West Virginia Advisory Committee to the Commission will convene via conference call. The Committee has selected a civil rights project to review the treatment of persons in mental health crises who find themselves in the West Virginia criminal justice system. The purpose of the meeting is to discuss and approve the project proposal that the Committee will submit to the agency for approval and to consider next steps in the planning of this project.

The meeting will be conducted via conference call. Members of the public, including persons with hearing impairments, who wish to listen to the conference call should contact the Eastern Regional Office (ERO), ten days in advance of the scheduled meeting, so that a sufficient number of lines may be reserved. You may contact the Eastern Regional Office by phone at 202-376-7533. Persons with hearing impairments should first call the Eastern Regional Office at the Federal Relay Service number listed above. After contact ERO such persons will be instructed on how to listen to the conference call.

Members of the public who call-in can expect to incur charges for calls they initiate over wireless lines, and the Commission will not refund any incurred charges. Callers will incur no charge for calls they initiate over land-line connections to the toll-free telephone number.

Members of the public are entitled to submit written comments. The comments must be received in the regional office by Monday, March 30, 2015. Comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at 202-376-7533.

Records generated from this meeting may be inspected and reproduced at the Eastern Regional Office, as they become available, both before and after the meeting. Persons interested in the work of this advisory committee are advised to go to the Commission's Web site, www.usccr.gov, or to contact the Eastern Regional Office at the above phone number, email or street address.

The meetings will be conducted pursuant to the provisions of the rules and regulations of the Commission and FACA.

Dated: February 5, 2015.
David Mussatt,
Chief, Regional Programs Unit.

[FR Doc. 2015-02729 Filed 2-10-15; 8:45 am]

BILLING CODE 6335-01-P